DEPARTMENT OF TRANSPORTATION

Federal Aviation Administration

14 CFR Part 33

[Docket No. FAA-2010-0398; Amendment No. 33-31]

RIN 2120-AJ62

Airworthiness Standards; Rotor Overspeed Requirements; Correction

AGENCY: Federal Aviation Administration (FAA), DOT.

ACTION: Final rule; correction.

SUMMARY: The FAA is correcting an unintentional error in the preamble of the final rule, Airworthiness Standards; Rotor Overspeed Requirements, published on July 18, 2011 (76 FR 42020). The final rule established uniform rotor overspeed design and test requirements for aircraft engines and turbochargers certificated by the FAA and the European Aviation Safety Agency (EASA). This document corrects an error in the preamble.

DATES: Effective September 8, 2011.

FOR FURTHER INFORMATION CONTACT: For technical questions concerning this final rule, contact Tim Mouzakis, Engine and Propeller Directorate Standards Staff, ANE-111, Engine and Propeller Directorate, Federal Aviation Administration, 12 New England Executive Park, Burlington, Massachusetts 01803-5299; telephone (781) 238-7114; fax (781) 238-7199; e-mail timoleon.mouzakis@faa.gov. For legal questions concerning this final rule contact Vincent Bennett, ANE-7, Office of Regional Counsel, Federal Aviation Administration, 12 New England Executive Park, Burlington, Massachusetts 01803-5299; telephone (781) 238-7044; fax (781) 238-7055; e-mail vincent.bennett@faa.gov.

SUPPLEMENTARY INFORMATION

Background

On Monday, July 18, 2011, the FAA published a final rule entitled “Airworthiness Standards; Rotor Overspeed Requirements” (76 FR 42022). The final rule revised the aircraft turbine engine rotor overspeed type certification standards.

During the review process, we determined a portion of the section entitled “Total Estimated Benefits and Costs of this Proposed Rule” should be removed. We found that this section included a discussion of a comment that had already been fully discussed in the paragraph headed “Material Properties of Test Rotors”. We are therefore eliminating discussion of this comment in the benefits and costs section of the preamble.

Correction to Preamble

1. On page 42022, third column, revise the first full paragraph of “Total Estimated Benefits and Costs of This Proposed Rule” to read as follows:

“Industry must currently certificate to the two standards that are substantively similar, but have a few slightly different testing and documentation procedures and requirements. The rule harmonizes these procedures and requirements to the higher standard and, thereby, may increase safety. In addition, by reducing the amount of duplicative testing that would need to be either witnessed or analyzed by the FAA, the FAA is better able to prioritize its resources to other, more safety critical areas. Consequently, we determined that unquantifiable future minimal benefits from the rule may also accrue. The FAA concludes that the combination of cost savings and potential increased safety benefits will make this rule cost beneficial. Further, we therefore determined that this rule is not a “significant regulatory action” as defined in section 3(f) of Executive Order 12866, and is not “significant” as defined in DOT'S Regulatory Policies and Procedures.”

This correction ensures correct understanding of and FAA response to comments received. There are no changes to the existing regulatory text.

Issued in Washington, DC, on August 31, 2011.
Dennis R. Pratte,
Acting Director, Office of Rulemaking.

[FR Doc. 2011-23025 Filed 9-7-11; 8:45 am]

BILLING CODE 4910-13-P